DEPARTMENT OF ENERGY

Federal Energy Regulatory Commission

[Docket No. CP20-27-000]

North Baja Pipeline, LLC; Notice of Schedule for Environmental Review of the North Baja Xpress Project

On December 16, 2019, North Baja Pipeline, LLC (North Baja) filed an application in Docket No. CP20-27-000 requesting a Certificate of Public Convenience and Necessity pursuant to Section 7(c) of the Natural Gas Act to construct and operate certain natural gas pipeline facilities. The proposed project is known as the North Baja Xpress Project (Project), and includes North Baja's installation of additional compression facilities and other modifications on its system to create 495 million cubic feet per day of incremental firm delivery to the U.S./Mexico border.

On December 31, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 17, 2020

90-day Federal Authorization Decision Deadline—October 15, 2020

If a schedule change becomes necessary, additional notice will be provided so that the relevant agencies are kept informed of the Project's progress.

Project Description

North Baja would construct one new 31,900 ISO horsepower compressor unit and restage two existing 7,700 horsepower compressor units at its existing Ehrenberg Compressor Station in La Paz County, Arizona, as well as install additional flow measurement facilities and piping modifications at its existing El Paso and Ogilby Meter Stations in La Paz County, Arizona and Imperial County, California, respectively.

Background

On January 31, 2020, the Commission issued a Notice of Intent to Prepare an Environmental Assessment for the Proposed North Baja Xpress Project and Request for Comments on Environmental Issues (NOI). The NOI was sent to affected landowners; federal, state, and local government agencies; elected officials; environmental and public interest groups; Native American tribes; other interested parties; and local libraries and newspapers. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-27), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 14, 2020.
Kimberly D. Bose,
Secretary.

[FR Doc. 2020-03791 Filed 2-25-20; 8:45 am]

BILLING CODE 6717-01-P